DEPARTMENT OF AGRICULTURE

Forest Service

Pinaleño Ecosystem Restoration Project, Safford Ranger District, Coronado National Forest, Graham County, Arizona

AGENCY: Forest Service, USDA.

ACTION: Notice of intent to prepare an environmental impact statement.

SUMMARY: In accordance with the President's Council on Environmental Quality (CEQ) Regulations Implementing the Procedural Provisions of the National Environmental Policy Act (NEPA) of 1969, the U.S. Department of Agriculture, Forest Service, Coronado National Forest, announces its intent to prepare an Environmental Impact Statement (EIS) to evaluate a proposed action to thin dense forests, remove standing dead trees and down woody debris, and use prescribed fire on approximately 3,705 acres in the Pinaleño Mountains in Graham County, Arizona, within Townships 8 and 9 South, Ranges 23 and 24 East, Gila and Salt River Meridian. These treatments would be carried out over a 10-year period for the purposes of restoring a fire-adapted ecosystem and aiding in the recovery of the Mount Graham red squirrel population and habitat.

DATES: Comments concerning the scope of the EIS analysis must be received by 30 days following the publication of this notice. The Draft EIS is expected to be filed with the Environmental Protection Agency (EPA) in the spring of 2008. At that time, EPA will publish a Notice of Availability (NOA) of the Draft EIS in the Federal Register, which will begin a period of public review of the Draft EIS. The review period will comprise 45 days from the date of publication of the NOA in the Federal Register. The Final EIS is scheduled to be completed in the summer of 2008.

ADDRESSES: Written comments on this notice may be mailed to the Craig Wilcox, Forest Silviculturist, Coronado National Forest, Safford Ranger District, 711 S. 14th Ave., Suite D, Safford, AZ 85546. Written comments may also be sent by facsimile to Mr. Wilcox at (928) 428-2393. Comments may be submitted by electronic mail to cpwilcox@fs.fed.us. Envelopes and the subject line of electronic mail messages or faxes should be labeled “Pinaleño Ecosystem Restoration Project EIS.”

FOR FURTHER INFORMATION CONTACT: For information on the Pinaleño Ecosystem Restoration Project, please contact Mr. Craig Wilcox, Forest Silviculturist, Coronado National Forest, at the above address, and telephone (928) 348-1961. Questions on the Forest Service NEPA process may be directed to Ms. Andrea Wargo Campbell, Forest NEPA Coordinator, at 300 W. Congress St., Tucson, AZ 85701, and telephone (520) 388-8352.

SUPPLEMENTARY INFORMATION:

Background

Over the past 100 years, fire suppression and other factors have diminished the natural ecological role of fire in the Pinaleño Mountains on the Safford Ranger District of the Coronado National Forest, resulting in a higher than average stand density and a heavy accumulation of dead and downed trees (fuel load). Both of these forest conditions increase the probability and consequences of severe wildland fire occurrence in the area.

In 1996 and 2004, large-acreage, high-intensity wildland fires exacerbated a reduction in the population of the Federally endangered Mount Graham red squirrel (Tamiasciurus hudsonicus grahamensis) through habitat loss and mortality. Also, since 1996, progressive insect infestations have defoliated and killed trees in the spruce-fir and mixed-conifer forests of the Pinaleño Mountains. Tree mortality associated with these outbreaks has exacerbated the probability of wildland fire and contributed further to a decline in the red squirrel population through habitat loss. Today, the population of the red squirrel is at its lowest point since censuses were initiated in 1986, and the viability of the species is of paramount concern to both the Forest Service and other Federal and state wildlife management agencies.

In May 2005, the Forest Service developed a tentative proposal to treat this area of the Forest to decrease the probability of severe wildland fire and improve general forest health. At that time, a scoping notice was distributed to the public requesting comments on the proposal, and two open house meetings were held to explain the nature of the treatments that were planned to be implemented. Based on public input and a continued decline in the squirrel population, the Forest Service has since recognized the need for further refinement of the proposed action to achieve a balance between short-term protection of squirrel habitat and long-term forest restoration. Thus, in 2007, a refined proposed action was developed to emphasize a concurrent reduction in the potential for severe wildland fire impacts and insect and disease outbreaks, while managing for long-term sustainability of red squirrel habitat. Given the sensitive nature of any proposed Forest treatments to the red squirrel and its habitat, the Forest Service decided to prepare an EIS that would provide a robust analysis to the decisionmaker, cooperating agencies and the public.

Proposed Action

The proposed action that will be evaluated in this EIS includes both on-the-ground treatments to improve Forest health and improve or protect red squirrel habitat; and administrative actions to incorporate amendments to the governing Forest Land and Resource Management Plan (Forest Plan), the latter of which will allow on-the-ground treatments to be implemented.

On the ground, approximately 3,705 acres of Forest would receive various combinations of silvicultural prescriptive treatments and/or fuel reduction actions, which include mechanical treatments and prescribed fire. To accomplish the proposed action, the Forest Plan must be amended to allow Christmas tree removal and public fuelwood gathering and to establish less restrictive Visual Quality Objectives (VQO) in the project area. Thus, the EIS will also evaluate proposed action of amending the Forest Plan to change current standards and guidelines for the project area.

The proposed action would implement more than 50 combinations of vegetation treatment options, depending on stand density and other physical conditions. These combinations will follow two general treatment strategies tiered from management guidance for the Mount Graham red squirrel and the Mexican spotted owl.

Live-tree thinning, using a combination of variable density, thinning from below, and group selection thinning techniques, is proposed as a silvicultural treatment on approximately 2,862 acres. In this treatment area, no live or dead trees larger than 18-inches diameter at breast height (dbh) would be removed on 1,773 acres; larger than 12-inches dbh on 47 acres; and larger than 9 inches dbh on 1,042 acres. Pockets of standing dead trees (up to 18-inches dbh) would be removed in areas where high tree mortality has occurred because of wildland fire and/or insect infestations.

Forest fuel reduction treatments would generally occur in the same areas where silvicultural treatments are proposed. These actions include masticating small trees (461 acres); lopping and scattering of trees less than 9 inches diameter (3,092 acres); underburning (2,642 acres); hand piling and burning small trees (1,612 acres); and pruning trees in treatment units that are along major roads.

Vegetation that is not mechanically reduced onsite would be removed from treatment units and transferred to collection points (landings) using ground-based mechanical removal equipment, cable logging systems, and/or manual, hand-based labor. The transfer method for each treatment unit would depend upon topography, availability of road access, cost, and resource protection needs. After material is removed from treatment units and taken to landings, it would be processed into sawlogs, firewood, or chips, and trucked from the project area. Some material may be piled and burned at the landing site.

All proposed treatments would include resource-specific design criteria to guide the manner in which the actions are implemented in order to minimize or reduce anticipated effects. Treatments are expected to continue in the project area for up to a period of ten years.

Purpose of and Need for Action

The purpose of this proposed action is to restore Forest ecosystem health and to protect habitat or restore degraded habitat for the endangered Mount Graham red squirrel.

Current fuel loads and stand densities in the project area are much greater than historic forest conditions, leaving the forest increasingly vulnerable to disease, insect infestations, and fire. The ecological implications of these shifts have led to increased susceptibility of the Forest to insect outbreaks and stand-replacing fires. Therefore, there is a need to initiate restoration of natural ecological processes and to treat the causes of declining ecosystem health by reducing stand densities, changing understory species composition, and reducing fuel loading. Restoration seeks to return forests, or to initiate an ecological trajectory to return forests, to a condition that is self-sustaining and compatible with the conditions under which they naturally evolved.

According to the Mount Graham Red Squirrel Recovery Plan (USDI Fish and Wildlife Service, 1993, Arizona Ecological Services State Office, Phoenix, AZ), the main threats to this endangered subspecies are habitat loss and catastrophic wildland fire. Over the past 20 years, approximately 50% of previously occupied red squirrel habitat has been rendered unsuitable due to insect outbreaks and fire. Associated with this reduction in habitat, there is an accompanying decline in population size; the current population estimate is 216 squirrels. As such, the remaining habitat, most of which falls within the project area, is of high importance. Therefore, a need exists to protect red squirrel habitat within the project area from losses due to fire, insect outbreaks, and diseases, and to restore areas of degraded habitat for this subspecies.

Preliminary Identification of Issues

Based on a preliminary review of the proposed action, the following issues were identified:

1. Short term impacts to the Mexican spotted owl may occur.

2. The efficacy of fuel reduction treatments proposed in this project is limited by the need to protect the Mount Graham red squirrel.

3. An increase of interspecies competition from the introduced Abert's squirrel with the Mount Graham red squirrel may result due to an increase in pine species.

4. An increase of avian predation on the Mount Graham red squirrel may result due to a reduction in hiding cover.

Responsible Official

Jeanine Derby, Forest Supervisor, Coronado National Forest, will be the Responsible Official who prepares the Record of Decision at the conclusion of this NEPA review. The address for the Coronado National Forest is 300 W. Congress St., Tucson, AZ 85701.

Nature of NEPA Decision To Be Made

The Coronado National Forest Supervisor's decision will address implementation of: (1) The proposed action, including Forest Plan amendments, (2) (an) alternative(s) to the proposed action and/or amendments if any exist, or (3) the no-action alternative; and approve or disapprove each of three proposed amendments to the Forest Plan.

Comments Requested

The Forest Service encourages citizens to express issues, concerns, and suggestions they may have about this proposed action. Comments should be directly related to the proposed action to best assist us in our environmental impacts analysis. Although comments are welcome at any time, they will be most useful to us if they are received by 30 days following the publication of this notice If you have any questions about this notice or the comment process, please contact Craig Wilcox, Forest Silviculturist, Coronado National Forest, Safford Ranger District, at telephone (928) 348-1961, prior to submitting your comments.

Written comments on this notice may be mailed to Craig Wilcox, Forest Silviculturist, Coronado National Forest, Stafford Ranger District, 711 S. 14th Ave., Suite D, Safford, AZ 85546. You may also submit written comments by facsimile to Mr. Wilcox at (928) 428-2393. Comments may be submitted by electronic mail to cpwilcox@fs.fed.us. Envelopes and the subject line of electronic mail messages or faxes should be labeled “Pinaleño Ecosystem Restoration Project EIS.”

Comments and personal information associated with them, such as names and addresses, will become part of the administrative project record for this NEPA review. As such, they may be made available to a third-party upon request pursuant to the Freedom of Infomation act (FOIA). If you do not wish your personal information to be subject to release under FOIA, you may choose not to include it with your comments. Alternatively, you may request an exemption from FOIA with your comments submittal. Should you choose the latter, you will be informed by the Forest Service as to whether or not your request qualifies for an exemption. If it does not, you will be afforded the opportunity to resubmit your comments without personal information or to withhold them.

Early Notice of the Importance of Public Participation in the NEPA Process

Following the 30-day scoping period announced in this notice, the Forest Service will prepare a draft environmental impact statement (DEIS). Upon completion, the DEIS will be made available for a 45-day public review and comment period that will begin on the date that the EPA publishes a Notice of Availability of the DEIS in the Federal Register. The Forest Service believes that, at this early stage, it is important to provide the public with notice about several court rulings related to public participation in the NEPA environmental review process.

First, reviewers of a DEIS must structure their participation in the NEPA review so that it is meaningful and alerts the agency to the reviewer's position and contentions [Vermont Yankee Nuclear Power Corp. v. NRDC, 435 U.S. 519, 553 (1978)]. Also environmental objections that could be raised at the DEIS stage but are not raised until after completion of the final environmental impact statement (FEIS) may be waived or dismissed by the courts [City of Angoon v. Hodel, 803 F.2d 1016, 1022 (9th Cir. 1986) and Wisconsin Heritages, Inc. v. Harris, 490 F. Supp. 1334, 1338 (E.D. Wisc. 1980)]. Because of these court rulings, it is very important that those parties who are interested in this proposed action participate before the close of a public comment period so that substantive comments and objections are available to the Forest Service in a timely manner that will allow them to be meaningfully considered and subsequently addressed in the FEIS.

To assist the Forest Service in identifying and considering issues and concerns about the proposed action, comments on a DEIS should be as specific as possible. It is also helpful if comments refer to specific line numbers, pages, and/or chapters of the DEIS. Comments may address the adequacy of the DEIS or the merits of the alternatives formulated and discussed in it. For comments of this nature, reviewers may choose to refer to CEQ regulations at 40 CFR 1503.3.

Comments received, including the names and addresses of those who comment, will be considered part of the public record of this NEPA review and will be available for public inspection (Authority: 40 CFR 1501.7 and 1508.22; FSF 1909.15, Section 21).

Authorization: National Environmental Policy Act of 1969 as amended (42 U.S.C. 4321-4346); Council on Environmental Quality Regulations (40 CFR parts 1500-1508); U.S. Department of Agriculture NEPA Policies and Procedures (7 CFR part 1b).

Dated: July 30, 2007.
Jeanine A. Derby,
Forest Supervisor.

[FR Doc. 07-3812 Filed 8-2-07; 8:45 am]

BILLING CODE 3410-11-M